COMMITTEE FOR THE IMPLEMENTATION OF TEXTILE AGREEMENTS

Determination Under the Textile and Apparel Commercial Availability Provision of the U.S.-Korea Free Trade Agreement (“KORUS FTA”)

AGENCY: The Committee for the Implementation of Textile Agreements.

ACTION: Determination to add a product in unrestricted quantities to Annex 4-B-1 of the KORUS FTA Agreement.

DATES: Effective Date: April 24, 2014.

SUMMARY: The Committee for the Implementation of Textile Agreements (“CITA”) has determined that certain cashmere yarns, as specified below, are not available in commercial quantities in a timely manner in the United States. The product will be added to the list in Annex 4-B-1 of the KORUS FTA in unrestricted quantities.

FOR FURTHER INFORMATION CONTACT: Pamela Kirkland, Office of Textiles and Apparel, U.S. Department of Commerce, (202) 482-3587.

For Further Information On-Line: http://web.ita.doc.gov/tacgi/FTA_CABroadcast.nsf//KoreaPetitionsApproved under “Approved Requests,” Reference number: 2.2014.03.18.Yarn.HeritageCashmereKoreaCo, Ltd

SUPPLEMENTARY INFORMATION:

Authority

KORUS FTA; Section 202(o) of the United States—Korea Free Trade Agreement Implementation Act (“Act”), Public Law 112-41; and Presidential Proclamation No. 8783 (77 FR 14265, March 9, 2012).

Background

Article 4.2.6 of the KORUS FTA provides for a list in Appendix 4-B-1 for fibers, yarns, and fabrics that the United States has determined are not available in commercial quantities in a timely manner from suppliers in the United States (“Commercial Availability List”). A textile or apparel good imported into the United States containing fibers, yarns, or fabrics that are included on the Commercial Availability List in Appendix 4- B-1 of the KORUS FTA will be treated as if it is an originating good for purposes of the specific rules of origin in Annex 4-A of the KORUS FTA, regardless of the actual origin of those inputs, in accordance with the specific rules of origin of Annex 4-A.

Section 202(o)(3)(F) of the Act provides that the President shall establish procedures under sections 202(o)(3)(C) and (E) in order to determine whether fibers, yarns, or fabrics are not available in commercial quantities in a timely manner in the United States, and whether a fiber, yarn, or fabric should be removed from the Commercial Availability List in Appendix 4-B-1 when it has become available in commercial quantities.

In Proclamation No. 8783 (77 FR 14265, March 9, 2012), the President delegated to CITA his authority under the commercial availability provision to establish procedures for modifying the list of fibers, yarns, or fabrics not available in commercial quantities in a timely manner, as set out in Annex 4- B of the KORUS FTA.

Pursuant to this delegation, on March 19, 2012, CITA published Interim Procedures it follows in considering requests to modify the list of fibers, yarns, or fabrics determined to be not commercially available in a timely manner in the United States under the KORUS FTA (Interim Procedures for Considering Requests Under the Commercial Availability Provision of the United States-Korea Free Trade Agreement and Estimate of Burden for Collection of Information, 77 FR 16001, March 19, 2012) (“CITA's procedures”).

On March 18, 2014, the Chairman of CITA received a Request for a commercial availability determination (“Request”) from Kingery, Samet & Sorini PLLC on behalf of Heritage Cashmere Korea Co., Ltd., for certain cashmere yarns as specified below. On March 19, 2014, in accordance with procedures established by CITA for commercial availability proceedings under the KORUS FTA, CITA notified interested parties of the Request, which was posted on the dedicated Web site for the KORUS FTA Commercial Availability proceedings. In its notification, CITA advised that any Response with an Offer to Supply (“Response”) must be submitted by April 1, 2014, and any Rebuttal Comments to the Response must be submitted by April 7, 2014 in accordance with sections 6 and 7 of CITA's procedures. No interested entity submitted a Response to the Request advising CITA of its objection to the Request with an offer to supply the subject product.

In accordance with section 202(o) of the Act, Annex 4-B of the KORUS FTA, and section 8(c)(1) of CITA's procedures, as no interested entity submitted a Response to object to the Request with an offer to supply the subject product, CITA has determined to add the specified yarn to the Commercial Availability List in Annex 4-B-1 of the KORUS FTA.

The subject product has been added to the Commercial Availability List in 4-B-1 of the KORUS FTA in unrestricted quantities. A revised Commercial Availability List has been posted on the dedicated Web site for KORUS FTA Commercial Availability proceedings.

Specifications

Certain Cashmere Yarns

HTS 5108.10 & 5108.20

100% cashmere 2-ply yarns

Denier and length of staple (the figures below include the +/− 10% variance that may occur after knitting, weaving and finishing)

Yarn Sizes:

Weaving Count (single yarn): 22.86-27.94 nm (13.5-16.5 Ne), 25.2-33mm

Knitting Count (two plied): 39.62-48.43 nm (23.4-28.626 Ne), 30.6-37.4mm

Yarn sizes were calculated using a conversion factor of Ne x 1.69336 = Nm

Put up: Cone type packages.

Dated April 16, 2014.
Kim Glas,
Chairman, Committee for the Implementation of Textile Agreements.

[FR Doc. 2014-09319 Filed 4-23-14; 8:45 am]

BILLING CODE 3510-DR-P